DEPARTMENT OF AGRICULTURE

Animal and Plant Health Inspection Service

[Docket No. 97-093-7]

Scrapie Eradication Uniform Methods and Rules

AGENCY: Animal and Plant Health Inspection Service, USDA.

ACTION: Notice.

SUMMARY: We are giving notice that the Animal and Plant Health Inspection Service is seeking public comments on the draft Scrapie Eradication Uniform Methods and Rules. This document contains draft cooperative procedures and standards to be used by the Agency, States, and the sheep and goat industries to contribute to the control and eradication of scrapie, a serious disease of sheep and goats.

DATES: We invite you to comment on the draft Scrapie Eradication Uniform Methods and Rules. We will consider all comments that we receive by June 19, 2001.

ADDRESSES: Please send four copies of your comment (an original and three copies) to: Docket No. 97-093-7, Regulatory Analysis and Development, PPD, APHIS, Suite 3C03, 4700 River Road, Unit 118, Riverdale, MD 20737-1238.

Please state that your comment refers to Docket No. 97-093-7.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

You may request a copy of the draft Scrapie Eradication Uniform Methods and Rules by writing to the person listed under FOR FURTHER INFORMATION CONTACT. The document is also available on the Internet at http://www.aphis.usda.gov/vs/scrapie, and we may post revised versions to this website for additional comment in the future.

FOR FURTHER INFORMATION CONTACT: Dr. Diane Sutton, National Scrapie Program Coordinator, National Animal Health Programs Staff, VS, APHIS, 4700 River Road Unit 43, Riverdale, MD 20737-1231; (301) 734-6954.

SUPPLEMENTARY INFORMATION: Scrapie is a degenerative and eventually fatal disease affecting the central nervous systems of sheep and goats. To control the spread of scrapie within the United States, the Animal and Plant Health Inspection Service (APHIS), U.S. Department of Agriculture (USDA), administers regulations at 9 CFR part 79, which restrict the interstate movement of certain sheep and goats. APHIS also has regulations at 9 CFR part 54 that describe a voluntary scrapie control program.

The draft Scrapie Eradication Uniform Methods and Rules (UM&R) is a set of proposed cooperative procedures and standards to aid the control and eradication of scrapie. The legal requirements for interstate movement of sheep and goats due to scrapie are contained in Title 9 of the Code of Federal Regulations. The Scrapie Eradication UM&R provides guidance to the States regarding the minimum standards necessary for a State to participate in the national eradication program. The UM&R will be revised and published as necessary by APHIS, with input from involved State and Federal agencies, representatives of the livestock industry, and the public. The current draft of the UM&R was written after substantial consultation with State animal health agencies, the American Sheep Industry Association, and the United States Animal Health Association.

We are soliciting comments on the draft UM&R from any interested parties. To obtain a copy of the UM&R, or to submit comments on it, please see the instructions given under ADDRESSES above. Any comments received will be considered during the process of revising this version of the UM&R for final publication.

Authority: 21 U.S.C. 111-113, 114, 114a, 115, 117, 120, 121, 123-126, and 134a-134h; 7 CFR 2.22, 2.80, and 371.4.

Done in Washington, DC, this 16th day of April 2001.
Bobby R. Acord,
Acting Administrator, Animal and Plant Health Inspection Service.

[FR Doc. 01-9789 Filed 4-19-01; 8:45 am]

BILLING CODE 3410-34-U